DEPARTMENT OF LABOR

Employment and Training Administration

[TA-W-59,683]

Morse Automotive Corporation, Arkadelphia, AR; Dismissal of Application for Reconsideration

Pursuant to 29 CFR 90.18(C) an application for administrative reconsideration was filed with the Director of the Division of Trade Adjustment Assistance for workers at Morse Automotive Corporation, Arkadelphia, Arkansas. The application did not contain new information supporting a conclusion that the determination was erroneous, and also did not provide a justification for reconsideration of the determination that was based on either mistaken facts or a misinterpretation of facts or of the law. Therefore, dismissal of the application was issued.

TA-W-59,683; Morse Automotive Corporation Arkadelphia, Arkansas (August 7, 2006)

Signed at Washington, DC, this 9th day of August 2006.
Erica R. Cantor,
Acting Director, Division of Trade Adjustment Assistance.

[FR Doc. E6-13515 Filed 8-15-06; 8:45 am]

BILLING CODE 4510-30-P